DEPARTMENT OF THE INTERIOR

Bureau of Land Management

[OR-056-1220-DG; GP-02-0088]

Closure Notice; Notice of Permanent Motor Vehicle Restriction on Public Lands; Deschutes/Crook Counties, OR

AGENCY: Bureau of Land Management, Prineville District, Deschutes Resource Area/Field Office.

ACTION: Notice is hereby given that all motorized use within the Badlands Wilderness Study Area (WSA), Crook and Deschutes County, Oregon, is restricted to designated routes only. The Badlands WSA is located approximately 15 miles east of Bend, Oregon, in Crook and Deschutes Counties. Specifically, this closure order applies to all public lands within the following perimeter description described below.

Perimeter Description: Beginning at the intersection of Alfalfa Market and Dodds County Roads, then south on Dodds Road to State Highway 20, then southwesterly on Highway 20, to its intersection with BLM Road #6521 then north easterly on road #6521, to its intersection with BLM road #6520-B, then continuing northeasterly on road #6520-B, to its intersection with a high voltage electrical transmission line with steel support towers, then north along this power line to its intersection with another power line supported by double wood poles, then northwesterly along this power line to its intersection with Alfalfa Market Road, then west on Alfalfa Market Road to point of beginning.

SUMMARY: The BLM is required to restrict motorized use to designated routes on public lands within the Badlands Wilderness Study Area. This restriction is necessary for BLM to comply with a federal consent judgment between the Central Oregon Forest Issues Committee et al. v. James Kenna, Deschutes Area Manager, Bureau of Land Management et al., Civil Action No. 98-29-ST (D. OR.), that was lodged with the United States District Court for the District of Oregon on November 23, 1999.

This 1999 federal consent judgement resulted from a settlement of a lawsuit between the Central Oregon Forest Issues Committee and other environmental organizations who took BLM to federal court in 1998, regarding its environmental assessment/management plan for the Millican Valley Off-Highway Vehicle Trail System. In December, 1999, the federal court requested BLM obtain public comments regarding the proposed federal court consent judgement, which included specific motorized vehicle restrictions within the Badlands Wilderness Study Area.

Public comments were considered and reviewed by the federal court judge before the consent judgement was finalized. Routes 4,5,6,7 and 8 were specifically identified by the plaintiffs and approved by the federal court in the consent judgement. This judgement stated that motorized use in the Badlands WSA was limited to routes 4,5,6, and 7, from May 1st through November 30th, annually. Route 8 was open to motorized use year-round.

DATES: This closure will take effect on the date this notice is published in the Federal Register. The closure will remain in effect until BLM modifies or rescinds this order.

ADDRESSES: Bureau of Land Management, Deschutes Resource Area, 3050 N.E. 3rd Street., Prineville, OR 97754.

FOR FURTHER INFORMATION CONTACT: Berry Phelps, Recreation Planner, 3050 NE Third Street, Prineville, Oregon 97754. Phone: (541) 416-6723.

Discussion of the Rules: The public lands affected by this proposed motorized vehicle restriction are all lands administered by the BLM within the Badlands WSA. Signs will be posted to identify designated routes. Motorized designated routes will be identified on user maps that will be available at key entrances into the Badlands WSA. A map of the proposed motorized restriction area is available from the Prineville District BLM office, 3050 N.E. 3rd. Street, Prineville, Oregon, 97754.

Prohibited Acts: Under 43 CFR 8364.1. The Bureau of Land Management will enforce the following rules within the Badlands Wilderness Study Area:

a. Operation of a motorized vehicle off of designated routes 4,5,6,7 and 8 is prohibited.

b. Operation of a motorized vehicle on routes 4,5,6, and 7, from December 1st through April 30th is prohibited.

Exemptions: This closure notice does not effect the following public lands:

1. Public land west of wood pole power line in Sections 20 and 29, T. 17S, R15E, W.M., and

2. Public lands north and/or west of the Central Oregon Irrigation District Canal in Sections 3 and 4, T. 18S, R. 14E., and Sections 26,33,34, and 35 in T. 17S, R14E, W.M.

This closure does not apply to persons who are exempt from these rules that include any Federal, State, or local officer or employee in the scope of his or her duties, members of any organized rescue or fire-fighting force in performance of an official duty, and any person authorized in writing by the Bureau of Land Management.

Penalties: The authorities for this closure are section 303(a) of the Federal Land Policy and Management Act of 1976 (43 U.S.C. 1733(a) and 43 CFR 8364.1). Any person who violates this closure may be fined no more than $1,000 or imprisoned for no more than 12 months, or both. Such violations may also be subject to the higher fines provided for by 18 U.S.C. 3571.

Dated: January 31, 2002.
A. Barron Bail,
District Manager.

[FR Doc. 02-12917 Filed 5-22-02; 8:45 am]

BILLING CODE 4310-33-P